DEPARTMENT OF THE INTERIOR

Fish and Wildlife Service

[FWS-R4-R-2008-N0049; 40136-1265-0000-S3]

Black Bayou Lake National Wildlife Refuge, Ouachita Parish, LA

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Black Bayou Lake National Wildlife Refuge. We provide this notice in compliance with our CCP policy to advise other agencies, Tribes, and the public of our intentions, and to obtain suggestions and information on the scope of issues to consider in the planning process.

DATES: To ensure consideration, we must receive your written comments by June 23, 2008. An open house meeting will be held during the scoping phase of the Draft CCP development process. The date, time, and place for the meeting will be announced in the local media.

ADDRESSES: Comments, questions, and requests for information should be sent to: Tina Chouinard, Natural Resource Planner, Hatchie National Wildlife Refuge, 6772 Highway 76 South, Stanton, TN 38069.

FOR FURTHER INFORMATION CONTACT: Tina Chouinard, Natural Resource Planner; Telephone: 318/305-0643; Fax: 771/772-7839; E-mail: tina_chouinard@fws.gov.

SUPPLEMENTARY INFORMATION:

Introduction

With this notice, we initiate our process for developing a CCP for Black Bayou Lake National Wildlife Refuge in Ouachita Parish, LA.

This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of Black Bayou Lake National Wildlife Refuge. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

The Black Bayou Lake Refuge is a unit of the North Louisiana National Wildlife Refuge Complex. Other refuges in the Complex include D'Arbonne, Upper Ouachita, Handy Brake, and Red River, and the Louisiana Wetlands Management District. The refuge, established in 1997, is three miles north of Monroe, Louisiana, just east of Highway 165 in Ouachita Parish. The refuge contains 4,522 acres of lacustrine, bottomland hardwood, and upland mixed pine/hardwood habitats. Although the suburban sprawl of Monroe surrounds much of its boundary, the refuge, itself, is home to a diversity of plants and animals. The refuge is situated in the Mississippi Flyway, the West Gulf Coastal Plain Bird Conservation Region, and the Lower Mississippi River Ecosystem.

Black Bayou Lake Refuge was established for “. . .the conservation of the wetlands of the Nation in order to maintain the public benefits they provide and to help fulfill international obligations contained in various migratory bird treaties and conventions. . .” (16 U.S.C. 3901(b)) (Wetlands Resources Act).

The central physical feature of the refuge is the lake itself. Black Bayou Lake, approximately 1,500 acres in size, is studded with baldcypress and water tupelo trees. The western half of the lake is open and deeper, unlike the eastern side, which is thick with trees and emergent vegetation. The lake is owned by the city of Monroe, which manages the water level as a secondary source of municipal water. The Service has a 99-year free lease on the lake and some of its surrounding land, constituting a total of 1,620 acres. The refuge owns the remaining 2,902 acres.

Three species of special concern that utilize the refuge include the alligator snapping turtle, the Rafinesque's big-eared bat, and the southeastern Myotis bat.

The refuge offers the six priority wildlife-dependent recreational activities as identified in the Improvement Act. Resident game and migratory game bird hunting occurs on the refuge. Black Bayou Lake is popular with the public, especially nearby residents. The lake attracts many fishermen during spring and summer, most fishing for bream, crappie, and bass.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: March 17, 2008.
Cynthia K. Dohner,
Acting Regional Director.

[FR Doc. E8-10344 Filed 5-7-08; 8:45 am]

BILLING CODE 4310-55-P